DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and 30 CFR part 44 govern the application, processing, and disposition of petitions for modification. This notice is a summary of petitions for modification submitted to the Mine Safety and Health Administration (MSHA) by the parties listed below to modify the application of existing mandatory safety standards codified in Title 30 of the Code of Federal Regulations.

DATES: All comments on the petitions must be received by the Office of Standards, Regulations and Variances on or before July 28, 2011.

ADDRESSES: You may submit your comments, identified by “docket number” on the subject line, by any of the following methods:

1. Electronic Mail: zzMSHA-comments@dol.gov. Include the docket number of the petition in the subject line of the message.

2. Facsimile: 1-202-693-9441.

3. Regular Mail: MSHA, Office of Standards, Regulations and Variances, 1100 Wilson Boulevard, Room 2350, Arlington, Virginia 22209-3939, Attention: Roslyn B. Fontaine, Acting Director, Office of Standards, Regulations and Variances.

4. Hand-Delivery or Courier: MSHA, Office of Standards, Regulations and Variances, 1100 Wilson Boulevard, Room 2350, Arlington, Virginia 22209-3939, Attention: Roslyn B. Fontaine, Acting Director, Office of Standards, Regulations and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Telefax). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification.

II. Petitions for Modification

Docket Number: M-2011-012-C.

Petitioner: Patton Mining, LLC, 925 South Main Street, Hillsboro, Illinois 62049.

Mine: Deer Run Mine, MSHA Mine I.D. No. 11-03182, located in Montgomery County, Illinois.

Regulation Affected: 30 CFR 75.1700 (Oil and gas wells).

Modification Request: The petitioner requests a modification of the existing standard to permit mining through (or intersecting) of certain oil and gas wells located within the projected workings of the Deer Run Mine. The following procedures are proposed to be used for cleaning out and preparing vertical oil and gas wells prior to plugging or replugging: (1) The petitioner will completely clean out the well from the surface to at least 200 feet below the base of the lowest mineable coal seam, unless MSHA requires cleaning to a greater depth. All material will be removed from the entire diameter of the well, wall to wall. (2) The petitioner will prepare down-hole logs for each well. They will consist of a caliper survey and log(s) suitable for determining the top, bottom, and thickness of all coal seams and potential hydrocarbon-producing strata and the location for a bridge plug. In addition, a journal will be maintained describing the depth and nature of each material encountered, bit size and type used to drill each portion of the hole, length and type of each material used to plug the well, length of casing(s) removed, perforated or ripped or left in place, any sections where casing was cut or milled, and other pertinent information concerning cleaning and sealing the well. Invoices, work-orders, and other records relating to all work on the well will be maintained as part of this journal and provided to MSHA upon request. (3) When cleaning out the well, the petitioner will make a diligent effort to remove all of the casing in the well. If it is not possible to remove all of the casing, then appropriate steps will be taken to ensure that the annulus between the casing and the casings and the well walls are filled with expanding (minimum 0.5 percent expansion upon setting) cement and contain no voids. If the casing cannot be removed, it will be cut or milled at all mineable coal seam levels, and any casing that remains will be perforated or ripped. Perforations or rips are required at least every 50 feet from 200 feet below the base of the lowest mineable coal seam up to 100 feet above the uppermost mineable coal seam. When multiple casing and tubing strings are present in the coal horizon(s), any casing that remains will be ripped or perforated and filled with expanding cement. An acceptable casing bond log for each casing and tubing string is needed if used in lieu of ripping or perforating multiple strings. (4) If the completely cleaned-out well emits excessive amounts of gas, a mechanical bridge plug will be placed in the well. The bridge plug will be placed in a competent stratum at least 200 feet below the base of the lowest mineable coal seam, but above the top of the uppermost hydrocarbon-producing stratum, unless the DM requires a greater distance. If it is not possible to set a mechanical bridge plug, an appropriately sized packer may be used. (5) If the uppermost hydrocarbon-producing stratum is within 300 feet of the base of the lowest mineable coal seam, the petitioner will properly place mechanical bridge plugs to isolate the hydrocarbon-producing stratum from the expanding cement plug. The petitioner will place a minimum of 200 feet of expanding cement below the lowest mineable coal seam, unless MSHA requires a greater distance. The following procedures will be used for plugging and replugging vertical oil or gas wells to the surface: (1) After completely cleaning out the well, the petitioner will pump expanding cement slurry down the well to form a plug that runs from at least 200 feet below the base of the lowest mineable coal seam to the surface (or lower if required by MSHA). The expanding cement will be placed in the well under a pressure of at least 200 pounds per square inch. Portland cement or a lightweight cement mixture may be used to fill the area from 100 feet above the top of the uppermost mineable coal seam to the surface (or higher if required by MSHA). (2) The petitioner will embed steel turnings or other small magnetic particles in the top of the cement near the surface to serve as a permanent magnetic monument of the well. In the alternative, a 4½-inch or larger casing, set in cement, will extend at least 36 inches above the ground level with the API well number engraved or welded on the casing. When the hole cannot be marked with a physical monument (i.e., prime farmland), high-resolution GPS coordinates (half-meter resolution) will be required. The following procedures will be used for plugging or replugging oil and gas wells for use as degasification boreholes: (1) After completely cleaning out the well, the petitioner will set a cement plug in the well by pumping an expanding cement slurry down the tubing to provide at least 200 feet of expanding cement below the lowest mineable coal seam unless MSHA requires a greater depth. The expanding cement will be placed in the well under a pressure of at least 200 pounds per square inch. The top of the expanding cement will extend at least 30 feet above the top of the coal seam being mined unless MSHA requires a greater distance. (2) The petitioner will securely grout into the bedrock of the upper portion of the degasification well a suitable casing to protect it. The remainder of this well may be cased or uncased. (3) The petitioner will fit the top of the degasification casing with a wellhead, equipped as required by the DM in the approved ventilation plan. Such equipment may include check valves, shut-in valves, sampling ports, flame arrestor equipment, and security fencing. (4) Operation of the degasification well will be addressed in the approved ventilation plan. This may include periodic tests of methane levels and limits on the minimum methane concentrations that may be extracted. (5) After the area of the coal mine that is degassed by a well is sealed or the coal mine is abandoned, the petitioner will seal degas holes as follows: (i) The petitioner will insert a tube to the bottom of the drill hole or if not possible, to no greater than 100 feet above the coal seam. Any blockage will be removed to ensure that the tube can be inserted to this depth; (ii) the petitioner will set a cement plug in the well by pumping Portland cement or a lightweight cement mixture down the tubing until the well is filled to the surface; and (iii) the petitioner will embed steel turnings or other small magnetic particles in the top of the cement near the surface to serve as a permanent magnetic monument of the well. In the alternative, a 4½-inch or larger casing set in cement will extend at least 36 inches above the ground level with the API well number engraved or welded on the casing. The following procedures will be used for preparing and plugging or replugging vertical oil and gas wells. This will apply to all wells that the petitioner determines and MSHA agrees cannot be completely cleaned out due to damage to the well caused by subsidence, caving, or other factors: (1) The petitioner will drill a hole adjacent and parallel to the well to a depth of at least 200 feet below the lowest mineable coal seam, unless MSHA requires a greater depth. (2) The petitioner will use a geophysical sensing device to locate any casing that may remain in the well. (3) If the well contains casing(s), the petitioner will drill into the well from the parallel hole. From 10 feet below the coal seam to 10 feet above the coal seam, all casings will be perforated or ripped at intervals of at least 5 feet. Beyond this distance, the petitioner will perforate or rip at least every 50 feet from at least 200 feet below the base of the lowest mineable coal seam up to 100 feet above the seam being mined, unless MSHA requires a greater distance. The petitioner will fill the annulus between the casing and between the casings and the well wall with expanding (minimum 0.5 percent expansion upon setting) cement and contain no voids. If the petitioner, using a casing bond log can demonstrate to the satisfaction of the DM that all annuli in the well are already adequately sealed with cement, then the petitioner will not be required to perforate or rip the casing for that particular well or fill these areas with cement. When multiple casing and tubing strings are present in the coal horizon(s), any casing that remains will be ripped or perforated and filled with expanding cement as indicated above. An acceptable casing bond log for each casing and tubing string is needed if used in lieu of ripping or perforating multiple strings. (4) Where the petitioner determines and MSHA agrees that there is insufficient casing in the well to allow the method outlined above to be used, then the petitioner will use a horizontal hydraulic fracturing technique to intercept the original well. From at least 200 feet below the base of the lowest mineable coal seam to a point at least 50 feet above the seam being mined, the petitioner will fracture at least six places at intervals to be agreed upon by the petitioner and the DM after considering the geological strata and the pressure within the well. The petitioner will then pump expanding cement into the fractured well in sufficient quantities and in a manner that fills all intercepted voids. (5) The petitioner will prepare down-hole logs for each well. They will consist of a caliper survey and log(s) suitable for determining the top, bottom, and thickness of all coal seams and potential hydrocarbon-producing strata and the location for a bridge plug. In addition, a journal will be maintained describing the depth of each material encountered, the nature of each material encountered, bit size and type used to plug the well, length of casing(s) removed, perforated or ripped or left in place, any sections where casing was cut or milled, and other pertinent information concerning cleaning and sealing the well. Invoices, work-orders, and other records relating to all work on the well will be maintained as part of this journal and provided to MSHA upon request. (6) After the petitioner has plugged the well, the petitioner will plug the open portions of both holes from the bottom to the surface with Portland cement or a lightweight cement mixture. The petitioner will embed steel turnings or other small magnetic particles in the top of the cement near the surface to serve as a permanent magnetic monument of the well. In the alternative, a 4½-inch or larger casing set in cement will extend at least 36 inches above the ground level. After approval has been granted by the DM to mine within the safety barrier (50 feet from any well), or mine through a plugged or replugged well, the following procedures will apply: (1) The petitioner will mine through a well on a shift approved by the DM. The petitioner will notify the DM and the miner's representative in sufficient time prior to mining through a well to provide an opportunity to have a representative present. (2) When using continuous mining methods, the petitioner will install drivage sights at the last open crosscut near the place to be mined to ensure intersection of the well. The drivage sights will not be more than 50 feet from the well. When using longwall mining methods, drivage sights will be installed on 10-foot centers for a distance of 50 feet in advance of the well. The drivage sights will be installed in the headgate and tailgate. (3) The petitioner will ensure that fire-fighting equipment, including fire extinguishers, rock dust, and sufficient fire hose to reach the working face area of the mine-through (when either the conventional or the continuous mining method is used) is available and operable during all well mine-throughs. The fire hose shall be located in the last open crosscut of the entry or room. The petitioner will maintain the water line to the belt conveyor tailpiece along with a sufficient amount of fire hose to reach the farthest point of penetration of the section. When the longwall mining method is used, a hose to the longwall water supply is sufficient. All fire hoses will be connected and ready for use, but do not have to be charged with water, during the cut-through. (4) The petitioner will ensure that sufficient supplies of roof support and ventilation materials are available and are located at the last open crosscut. In addition, emergency plugs and suitable sealing materials will be available in the immediate area of the well intersection. (5) Minimum ventilation air quantities to be maintained in the working face during the period from when mining is within 50 feet of the well location until the post-cut-through inspection or mining progresses at least 50 feet past the well location will be specified in the approved ventilation plan. (6) All equipment will be serviced and checked for permissibility on the shift prior to mining through the well. (7) Methane monitor(s) will be calibrated on the longwall, continuous mining machine, or cutting machine and loading machine on the shift prior to mining through the well. (8) When mining is in progress, the petitioner will test for methane with a hand-held methane detector at least every 10 minutes from the time mining with the continuous mining machine or longwall face is within 30 feet of the well until the well is intersected and immediately prior to mine-through. During the actual cutting process, no individual will be allowed on the return side until the mine-through is complete and the area has been examined and declared safe. Workplace examinations will be conducted on the return side of the shearer while the shearer is idle. (9) When using continuous or conventional mining methods, the working place will be free from accumulations of coal dust and coal spillages and rock dust will be placed on the roof, rib and floor to within 20 feet of the face when mining through the well. On longwall sections, rock dusting will be conducted and placed on the roof, rib, and floor up to the headgate and the tailgate gob. (10) When the well is intersected, the petitioner will de-energize all equipment, thoroughly examine it, and determine the area safe before mining is resumed. (11) After a well has been intersected and the working place determined safe, mining will continue inby the well at a sufficient distance to permit adequate ventilation around the area of the well. (12) If the casing is cut or milled at the coal seam level, the use of torches should not be necessary. However, in rare instances torches may be used for inadequately or inaccurately cut or milled casings. No open flame will be permitted in the area until adequate ventilation has been established around the well bore and methane levels of less than 1.0 percent are present in all areas that will be exposed to flames and sparks from the torch. The petitioner will apply a thick layer of rock dust to the roof, face, floor, ribs, and any exposed coal within 20 feet of the casing prior to any use of torches. (13) Non-sparking (brass) tools will be located on the working section and will be used to expose and examine cased wells. (14) No person will be permitted in the area of the mine-through operation except those actually engaged in the operation, including company personnel, representatives of the miners, personnel from MSHA, and personnel from the appropriate State agency. (15) The petitioner will alert all personnel in the mine to the planned intersection of the well prior to their going underground if the planned intersection is to occur during their shift. This warning will be repeated for all shifts until the well has been mined through. (16) The mine-through operation will be under the direct supervision of a certified individual. Instructions concerning the mine-through operation will be issued only by the certified individual in charge. The petitioner states that: (1) Within 30 days after this petition becomes final, the petitioner will submit proposed revisions for its approved 30 CFR part 48 training plan to the district manager. These proposed revisions will include initial and refresher training regarding compliance with the terms and condition stated in the petition. All miners involved in the mine-through of a well will be trained regarding the requirements of this petition prior to mining within 150 feet of the next well intended to be mined through; (2) the person responsible for well intersection emergencies will review the well intersection procedures prior to any planned intersection; and (3) within 30 days after this petition becomes final, the petitioner will submit proposed revisions for its approved mine emergency and firefighting plan. The petitioner will revise the plans to include the hazards and evacuation procedures to be used for well intersections. All underground miners will be trained in this revised plan within 30 days of the submittal of the revised evacuation plan. Persons may review a complete description of petitioner's alternative method and procedures at the MSHA address listed in this petition. The petitioner asserts that the proposed alternative method will at all times guarantee no less than the same measure of protection afforded miners under the existing standard.

Docket Number: M-2011-013-C.

Petitioner: Lone Mountain Processing, Inc., Drawer C, St. Charles, Virginia 24282.

Mine: Darby Fork No. 1 Mine, MSHA I.D. No. 15-02263, located in Harlan County, Kentucky.

Regulation Affected: 30 CFR 75.364(b)(2) (Weekly examination).

Modification Request: The petitioner requests a modification of the existing standard to permit two evaluation points to be established for weekly evaluation of a return entry in the Lower 7-Right panel of the return entry air course due to a rock fall. The petitioner states that: (1) Two evaluation points will be located at break 39 and break 36 in the Lower 7-Right panel to monitor air quality and quantity entering and exiting the hazardous area. (2) A certified person will examine each of the evaluation points at least every 7 days to include the following: (a) Examine for hazards on the approaches to and at the evaluation points; (b) evaluate and measure the quality and quantity of air flowing past the evaluation points; (c) air quality measurements will determine the methane, oxygen, and carbon monoxide concentrations using a MSHA-approved hand-held device; (d) air quantity measurements will be made using an appropriately calibrated anemometer; (e) methane gas or other harmful, noxious, or poisonous gases will not be permitted to accumulate in excess of legal limits for a return air course; (f) at these evaluation points, an increase of 0.5 percent methane above the previous reading or a 10 percent unplanned change in the airflow quantity from the previous reading will cause an immediate examination and evaluation of the cause; (g) appropriate corrective action will be taken and a new initial airflow will be determined and serve as the basis for subsequent evaluations; (h) at each evaluation point, a date board will be provided where the certified examiner will record the date, time, his or her initials, and the measured quantity and quality of the air entering the affected area; and (i) record the results of each weekly examination in a book maintained on the surface. (3) The permanent ventilation controls and evaluation points will be shown on the annual mine ventilation map. (4) All evaluation points and approaches to evaluation points will be maintained in a safe condition at all times. The roof will be adequately supported by suitable means to prevent deterioration of the roof in the vicinity of the evaluation points. The petitioner asserts that the proposed alternative method will at all times guarantee no less than the same measure of protection afforded by the existing standard.

Docket Number: M-2011-014-C.

Petitioner: Tunnel Ridge, LLC, 2596 Battle Run Road, Triadelphia, West Virginia 26059.

Mine: Tunnel Ridge Mine, MSHA Mine I.D No. 46-08864, located in Ohio County, West Virginia.

Regulation Affected: 30 CFR 75.503 (Permissible electric face equipment; maintenance).

Modification Request: The petitioner requests a modification of the existing standard to permit the length of trailing cable(s) used within the Tunnel Ridge Mine to be increased. The petitioner states that: (1) This petition will apply only to trailing cables that supply 995-volt three-phase, alternating current (“AC”) to continuous mining machine(s), trailing cables that supply 600-volt, three-phase AC to loading machines, roof bolting machines, shuttle cars, and section ventilation fans, and trailing cables that supply 600-volt direct current (“DC”) to shuttle cars; the trailing cables will have a 90-degree insulation rating. (2) Extended length trailing cable(s) used on AC shuttle cars will be three-conductor cable, either Type G-GC, Type G, or Type G+GC; when a Type G-GC or Type G+GC trailing cable is used with wireless ground-wire monitoring, the ground-check conductor will be connected as a ground conductor. (3) The maximum length of the continuous mining machine(s) trailing cable when using #2/0 American Wire Gauge (AWG) will not exceed 950 feet. The maximum length of the loader(s), shuttle car(s), roof bolter(s), and section ventilation fan(s) trailing cables will not exceed 950 feet. However, 1,000 feet of cable may be used when using #4/0 AWG on continuous mining machine(s). (4) The trailing cable(s) for the 995-volt continuous mining machine(s) and 600 volt section ventilation fan(s) will not be smaller than #2/0 AWG. (5) The trailing cable(s) for the 600 volt AC loading machine(s) and 600 volt AC shuttle car(s) will not be smaller than #2 AWG. (6) The trailing cable(s) for the 600 volt roof bolter(s) will not be smaller than #4 AWG. (7) The trailing cables for the 600 volt DC shuttle cares will not be smaller than 2/0 AWG. (8) All circuit breakers used to protect #4 AWG trailing cables exceeding 600 feet in length will have instantaneous trip units calibrated to trip at 500 amperes. The trip setting of these circuit breakers will be sealed or locked, and will have permanent, legible labels. The label will identify the circuit breaker as being suitable for protecting #4 AWG cables. The label will be maintained in legible condition. (9) Replacement circuit breakers and/or instantaneous trip units used to protect #4 AWG trailing cables will be calibrated to trip at 500 amperes and this setting will be sealed or locked. (10) All circuit breakers used to protect #2 AWG trailing cables exceeding 700 feet in length will have instantaneous trip units calibrated to trip at 800 amperes. The trip setting of these circuit breakers will be sealed or locked, and will have permanent, legible labels. The label will identify the circuit breaker as being suitable for protecting #2 AWG cables. The label will be maintained in legible condition. (11) Replacement circuit breakers and/or instantaneous trip units, used to protect #2 AWG trailing cables will be calibrated to trip at 800 amperes and this setting will be sealed or locked. (12) All circuit breakers used to protect #2/0 AWG trailing cables exceeding 850 feet in length will have instantaneous trip units calibrated to trip at 1,500 amperes. The trip setting of these circuit breakers will be sealed or locked, and these circuit breakers will have permanent, legible labels. The label will identify the circuit breaker as being suitable for protecting #2/0 AWG cables. The label will be maintained in legible condition. (13) Replacement circuit breakers and/or instantaneous trip units used to protect #2/0 AWG trailing cables will be calibrated to trip at 1,500 amperes and this setting will be sealed or locked. (14) All components that provide short-circuit protection will have sufficient interruption rating in accordance with the maximum calculated fault currents available. (15) During each production day, persons designated by the operator will visually examine the trailing cables to ensure that the cables are in safe operating condition and that the instantaneous settings of the specially calibrated breakers do no have seals removed or tampered with and that they do not exceed the settings stipulated in this petition. (16) Any trailing cable that is not in a safe operating condition will be removed from service immediately and repaired or replaced. (17) Each splice or repair in the trailing cables of a continuous miner(s), loader(s), shuttle car(s), roof bolter(s), and ventilation fan(s) will be made in a workmanlike manner and in accordance with the instructions of the manufacturer of the splice or repair materials. The splice or repair will comply with 30 CFR 75.603 and 75.604. The outer jacket of each splice or repair will be vulcanized with flame-resistant material or made with material that has been accepted by MSHA as flame-resistant. (18) Permanent warning labels will be installed and maintained on the cover(s) of the power center identifying the location of each sealed short-circuit protective device. These labels will warn miners not to change or alter these sealed short-circuit settings, and any sign of tampering with the specially calibrated breaker or trip unit will require the replacement of the circuit breaker with another calibrated, sealed and/or locked trip unit. (19) In the event the mining methods or operating procedures cause or contribute to the damage of any trailing cable, the cable will be removed from service immediately and repaired or replaced. Additional precautions will be taken to ensure that haulage roads and trailing cable storage areas are situated to minimize contact of the trailing cable with continuous miner(s), loading machine(s), shuttle car(s), roof bolter(s), and section ventilation fan(s). Trailing cable anchors on cable reel equipment will be of the permanent type that minimizes the tensile forces on the trailing cables. (20) Where the method of mining would require that trailing cables cross roadways or haulageways, the cables will be securely supported from the mine roof or a substantial bridge for equipment to pass over the cables will be used. (21) Excessive cable will be stored behind the anchor(s) on equipment that use cable reels to prevent cable(s) from overheating. (22) The proposed alternative method will not be implemented until all miners designated to examine the integrity of the seals, verify the short-circuit settings, and examine trailing cables for defects have received training in: (a) The hazards of setting the short-circuit device(s) too high to adequately protect the trailing cables; (b) how to verify that the circuit interrupting device(s) protecting the trailing cable(s) are properly set and maintained; (c) mining methods and training to protect the trailing cable(s) against damage caused by overheating cable(s) due to excessive cable stored on the cable reel(s) and adjusting stored cable behind the cable anchor(s) as tramming distances change; and (d) proper procedures for examining the trailing cable(s) to ensure that the cable(s) are in safe operating condition by a visual inspection of the entirety of the cable(s), observing the insulation, the integrity of the splices, and observing for nicks and abrasions. (23) Within 60 days after this proposed decision and order becomes final, proposed revisions for the approved Part 48 training plan will be submitted to the District Manager. The petitioner asserts that the proposed alternative method will at all times provide no less than the same measure of protection afforded by the existing standard.

Docket Number: M-2011-015-C.

Petitioner: TK Mining Services, LLC, 12250 Hwy 12, Weston, Colorado 81091.

Mine: New Elk Mine, MSHA Mine I.D No. 05-00296, located in Las Animas County, Colorado.

Regulation Affected: 30 CFR 75.503 (Permissible electric face equipment; maintenance)

Modification Request: The petitioner requests a modification of the existing standard to permit the use of non-permissible survey, diagnostic, photographic and programming equipment throughout the entire mine. The petitioner proposes to use the non-permissible equipment to help with development, exploration of entries, and maintenance of mining equipment. The petitioner states that: (1) The equipment is very vital in keeping the entries going in the proper direction and maintaining equipment for the safety of the miners; (2) the equipment will be examined by a qualified person for defects prior to usage underground; (3) a qualified person will thoroughly examine for methane and other hazardous conditions prior to use and every 20 minutes or sooner if needed; and (4) all equipment and activity will stop immediately if the surrounding mine's atmosphere contains 1.0 percent or greater of methane, or if hazardous concentrations of coal dust or other hazards are observed. The petitioner asserts that every precaution will be taken to guarantee the safety of every miner working at the New Elk Mine. If the situation is not safe this equipment will not be used until the area is safe or made safe, and at no time will a miner be in danger.

Dated: June 22, 2011.
Patricia W. Silvey,
Certifying Officer .

[FR Doc. 2011-16084 Filed 6-27-11; 8:45 am]

BILLING CODE 4510-43-P